SECURITIES AND EXCHANGE COMMISSION

[Release No. IC-25871]

Notice of Applications for Deregistration Under Section 8(f) of the Investment Company Act of 1940

December 20, 2002.

The following is a notice of applications for deregistration under section 8(f) of the Investment Company Act of 1940 for the month of December, 2002. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on January 16, 2003, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0506.

Principal Partners LargeCap Growth Fund, Inc. [File No. 811-9757], Principal European Equity Fund, Inc. [File No. 811-9801], Principal Pacific Basin Fund, Inc. [File No. 811-9803]

Summary: Each applicant seeks an order declaring that it has ceased to be an investment company. By October 31, 2002, each applicant had transferred its assets to Principal International Fund, Inc., based on net asset value. Expenses of $42,721, $3,314 and $3,314, respectively, incurred in connection with the reorganizations and were paid by Principal Management Corporation, investment adviser to each applicant.

Filing Date: The applications were filed on November 22, 2002, and amended on December 17, 2002.

Applicants' Address: The Principal Financial Group, 711 High St., Des Moines, IA 50392-0200.

Stockback Fund [File No. 811-9587]

Summary: Applicant seeks an order declaring that it has ceased to be an investment company. On April 16, 2002, applicant made a liquidating distribution to its shareholders, based on net asset value. Expenses of $11,450 incurred in connection with the liquidation were paid by Stockback Holdings, Inc. on behalf of Stockback Advisers, LLC, applicant's investment adviser.

Filing Dates: The application was filed on November 18, 2002, and amended on December 13, 2002.

Applicant's Address: 11 Broadway, 17th Floor, New York, NY 10004.

Waddell & Reed Advisors Municipal Money Market Fund, Inc. [File No. 811-10137]

Summary: Applicant seeks an order declaring that it has ceased to be an investment company. On May 2, 2002, applicant made a liquidating distribution to its shareholders, based on net asset value. Expenses of $15,590 incurred in connection with the liquidation were paid by Waddell & Reed, Inc., applicant's underwriter and distributor.

Filing Date: The application was filed on November 26, 2002.

Applicant's Address: 6300 Lamar Ave., Overland Park, KS 66202.

FirstMerit Funds [File No. 811-6224]

Summary: Applicant seeks an order declaring that it has ceased to be an investment company. On August 16, 2002, applicant transferred its assets to Federated Capital Appreciation Fund and Automated Government Cash Reserves, based on net asset value. Applicant incurred no expenses in connection with the reorganization.

Filing Dates: The application was filed on November 5, 2002, and amended on December 6, 2002.

Applicant's Address: Federated Investors Tower, 5800 Corporate Dr., Pittsburgh, PA 15237-7010.

LMCG Funds [File No. 811-10069]

Summary: Applicant seeks an order declaring that it has ceased to be an investment company. On August 29, 2002, applicant made a final liquidating distribution to its shareholders, based on net asset value. Expenses of $5,000 incurred in connection with the liquidation were paid by Lee Munder Investments Ltd., applicant's investment adviser.

Filing Date: The application was filed on November 19, 2002.

Applicant's Address: 60 State St., Suite 1300, Boston, MA 02109.

Glen Rauch Buy-Write Fund [File No. 811-10175]

Summary: Applicant seeks an order declaring that it has ceased to be an investment company. On December 28, 2001, applicant made a liquidating distribution to its shareholders, based on net asset value. Applicant incurred no expenses in connection with the liquidation.

Filing Date: The application was filed on November 19, 2002.

Applicant's Address: 44 Wall St., New York, NY 10005.

Oppenheimer Multi-Cap Value Fund I [File No. 811-10259]

Summary: Applicant seeks an order declaring that it has ceased to be an investment company. Applicant has never made a public offering of its securities and does not propose to make a public offering or engage in business of any kind.

Filing Dates: The application was filed on October 18, 2002, and amended on November 25, 2002.

Applicant's Address: OppenheimerFunds, Inc., 6803 Tucson Way, Englewood, CO 80112.

Nuveen Multistate Tax-Free Trust [File No. 811-6435]

Summary: Applicant seeks an order declaring that it has ceased to be an investment company. On January 31, 1997, each series of applicant transferred its assets to a corresponding series of Nuveen Flagship Multistate Trust I, Nuveen Flagship Multistate Trust II, or Nuveen Flagship Multistate Trust IV, based on net asset value. Expenses of $277,595 incurred in connection with the reorganization were paid by applicant, and Nuveen Advisory Corp. and Flagship Financial Inc., the investment advisers of applicant and the acquiring funds, respectively.

Filing Dates: The application was filed on July 19, 2002, and amended on November 21, 2002.

Applicant's Address: 333 West Wacker Dr., Chicago, IL 60606.

Nuveen Insured Tax-Free Bond Fund, Inc. [File No. 811-4821]

Summary: Applicant seeks an order declaring that it has ceased to be an investment company. On January 31, 1997, each series of applicant transferred its assets to a corresponding series of Nuveen Flagship Municipal Trust or Nuveen Flagship Multistate Trust II, based on net asset value. Expenses of $225,430 incurred in connection with the reorganization were paid by applicant.

Filing Dates: The application was filed on July 19, 2002, and amended on November 21, 2002.

Applicant's Address: 333 West Wacker Dr., Chicago, IL 60606.

Nuveen Insured Premium Income Municipal Fund, Inc. [File No. 811-7130]

Summary: Applicant, a closed-end investment company, seeks an order declaring that it has ceased to be an investment company. On September 9, 1996, applicant transferred its assets to Nuveen Insured Premium Income Municipal Fund 2, based on net asset value. Applicant's shareholders who held preferred stock received one share of preferred stock of the acquiring fund for each share of applicant's preferred stock. Expenses of $657,613 incurred in connection with the reorganization were paid by applicant and the acquiring fund.

Filing Dates: The application was filed on July 19, 2002, and amended on November 21, 2002.

Applicant's Address: 333 West Wacker Dr., Chicago, IL 60606.

Nuveen Municipal Bond Fund [File No. 811-2692]

Summary: Applicant seeks an order declaring that it has ceased to be an investment company. On January 31, 1997, applicant transferred its assets to a series of Nuveen Flagship Municipal Trust, based on net asset value. Expenses of $530,658 incurred in connection with the reorganization were paid by applicant.

Filing Dates: The application was filed on July 19, 2002, and amended on November 21, 2002.

Applicant's Address: 333 West Wacker Dr., Chicago, IL 60606.

Nuveen Tax-Free Bond Fund, Inc. [File No. 811-4817]

Summary: Applicant seeks an order declaring that it has ceased to be an investment company. On January 31, 1997, each series of applicant transferred its assets to a corresponding series of Nuveen Flagship Multistate Trust II or Nuveen Flagship Multistate Trust IV, based on net asset value. Expenses of $281,910 incurred in connection with the reorganization were paid by applicant, and Nuveen Advisory Corp. and Flagship Financial Inc., the investment advisers of applicant and the acquiring funds, respectively.

Filing Dates: The application was filed on July 19, 2002, and amended on November 21, 2002.

Applicant's Address: 333 West Wacker Dr., Chicago, IL 60606.

Flagship Tax Exempt Funds Trust [File No. 811-4263]

Summary: Applicant seeks an order declaring that it has ceased to be an investment company. On November 1, 1997, each series of applicant transferred its assets to a corresponding series of Nuveen Flagship Multistate Trust I, Nuveen Flagship Multistate Trust II, Nuveen Flagship Multistate Trust III, Nuveen Flagship Multistate Trust IV, or Nuveen Flagship Municipal Trust, based on net asset value. Expenses of $1,202,000 incurred in connection with the reorganization were paid by applicant, and Flagship Financial Inc. and Nuveen Advisory Corp., the investment advisers of applicant and the acquiring funds, respectively.

Filing Dates: The application was filed on July 19, 2002, and amended on November 21, 2002.

Applicant's Address: 333 West Wacker Dr., Chicago, IL 60606.

Franklin Government Securities Trust [File No. 811-5709]

Summary: Applicant seeks an order declaring that it has ceased to be an investment company. On November 26, 1997, applicant made a liquidating distribution to its shareholders based on net asset value. Applicant incurred no expenses in connection with the liquidation.

Filing Dates: The application was filed on May 18, 2001 and amended and restated on September 24, 2002.

Applicant's Address: One Franklin Parkway, San Mateo, CA 94403-1906

For the Commission, by the Division of Investment Management, pursuant to delegated authority.
Margaret H. McFarland,
Deputy Secretary.

[FR Doc. 02-32791 Filed 12-26-02; 8:45 am]

BILLING CODE 8010-01-P